COMMISSION ON CIVIL RIGHTS

Agenda and Notice of Public Meeting of the Connecticut Advisory Committee

Notice is hereby given, pursuant to the provisions of the rules and regulations of the U.S. Commission on Civil Rights (Commission) and the Federal Advisory Committee Act (FACA), that a planning meeting of the Connecticut State Advisory Committee will convene at 10:30 a.m. on Friday, May 25, 2012 at the University of Connecticut, School of Law, Faculty Lounge, 55 Elizabeth Street, Hartford, CT 06105. The purpose of the planning meeting is for review and approval of Advisory Committee report.

Members of the public are entitled to submit written comments; the comments must be received in the regional office by Monday, June 25, 2012. Comments may be mailed to the Eastern Regional Office, U.S. Commission on Civil Rights, 624 9th Street NW., Suite 740, Washington, DC 20425, faxed to (202) 376-7548, or emailed to ero@usccr.gov. Persons who desire additional information should contact the Eastern Regional Office at 202-376-7533.

Persons needing accessibility services should contact the Eastern Regional Office at least ten (10) working days before the scheduled date of the meeting.

Records generated from these meetings may be inspected and reproduced at the Eastern Regional Office, as they become available, both before and after the meetings. Persons interested in the work of this advisory committee are advised to go to the Commission's Web site, http://www.usccr.gov, or to contact the Eastern Regional Office at the above email or street address or phone number.

The meetings will be conducted pursuant to the rules and regulations of the Commission and FACA.

Dated in Washington, DC, May 8, 2012.
Peter Minarik,
Acting Chief, Regional Programs Coordination Unit.

[FR Doc. 2012-11375 Filed 5-10-12; 8:45 am]

BILLING CODE 6335-01-P